DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Teacher at Sea Application.

OMB Control Number: 0648-0283.

Form Number(s): NOAA Form 57-10-01.

Type of Request: Regular submission (revision and extension of a currently approved information collection).

Number of Respondents: 375.

Average Hours per Response: Application: 1 hr. 15 min; Recommendations: 15 minutes; NOAA Health Services Questionnaire and Tuberculosis Screening Document: 45 minutes; Follow-up Report: 2 hours.

Burden Hours: 781.

Needs and Uses: Consistent with the support for research and education under the National Marine Sanctuaries Act (16 U.S.C. 32 § 1440) and other coastal and marine protection legislation, NOAA provides educators an opportunity to gain first-hand experience with field research activities through the Teacher at Sea Program. Through this program, educators spend up to 3 weeks at sea on a NOAA research vessel, participating in an ongoing research project with NOAA scientists.

The application solicits information from interested educators, and participants in the program are selected following review of their application. The application includes two recommendation forms: One from the applicant's Administrator and one from a colleague. The NOAA Health Services Questionnaire (NHSQ) and Tuberculosis Screening Document (TSD) is a requirement of anyone going to sea and must be completed by teachers who are selected for the program. Once an educator is selected and participates on a cruise, s/he writes a report detailing the events of the cruise and his/her ideas for classroom activities based on what was learned while at sea. These materials are then made available to other educators so they may benefit from the experience, without actually going to sea. NOAA does not collect information from this universe of respondents for any other purpose.

The revisions to this collection included updating the miscellaneous costs and correcting the time to complete the NOAA Health Services Questionnaire and Tuberculosis Screening Document to more accurately reflect the correct burden.

Affected Public: Individuals or households.

Frequency: Annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Clearance Officer, Office of the Chief Information Officer, Commerce Department.

[FR Doc. 2019-20611 Filed 9-23-19; 8:45 am]

BILLING CODE 3510-22-P